DEPARTMENT OF HOMELAND SECURITY

Office of the Chief Information Officer

Submission for Review; Notice of Emergency Reinstatement of Post Contract Award Information

AGENCY: Office of the Chief Information Officer, DHS.

ACTION: Notice of emergency reinstatement.

SUMMARY: The Department of Homeland Security (DHS) is requesting OMB's approval to reinstate Information Collection Request (ICR) 1600-0003 (Post Contract Award Information) which expired June 30, 2005. This ICR is necessary for businesses and individuals seeking contracting opportunities with DHS.

DATES: Send your comments by August 10, 2005. A comment to OMB is most effective if OMB receives it within 30-days of publication.

ADDRESSES: Written comments and/or suggestions contained in this notice should be directed to the Office of Management and Budget, Attn: Desk Officer for Homeland Security, Office of Management and Budget Room 10235, Washington, DC 20503; telephone (202) 395-7316 (this is not a toll free number).

FOR FURTHER INFORMATION CONTACT: Requests for copies of this ICR, with supporting documentation, may be directed to the Department of Homeland Security, Office of the Chief Procurement Officer, Acquisition Policy and Oversight, Attn: Angelie Jackson, 245 Murray Drive, Bldg 410 (RDS), Washington, DC 20528; telephone (202) 692-4211 (this is not a toll free number). Direct e-mail to acquisition@dhs.gov, and reference the information collection for post-award documents.

SUPPLEMENTARY INFORMATION:

Analysis

Agency: Department of Homeland Security, Office of the Chief Information Officer.

Title: Post-Contract Award Information.

OMB Control Number: 1600-0003.

Frequency: On Occasion.

Affected Public: Businesses and individuals seeking contracting opportunities with the DHS.

Estimated Number of Respondents: 5626 respondents.

Estimated Time Per Respondent: 14 hours.

Total Burden Hours: 78,764.

Total Burden Cost (Capital/Startup): None.

Total Burden Cost (Operating/Maintaining): None.

Description: Comments in response to this reinstatement request will be summarized and included in the request for OMB approval.

Ronald T. Hewitt,
Acting, Chief Information Officer.

[FR Doc. 05-13676 Filed 7-7-05; 2:23 pm]

BILLING CODE 4410-10-P